DEPARTMENT OF TRANSPORTATION

Federal Aviation Administration

14 CFR Part 39

[Docket No. FAA-2005-20402; Directorate Identifier 2005-NM-133-AD]

RIN 2120-AA64

Airworthiness Directives; Sabreliner Model NA-265, NA-265-20, NA-265-30, NA-265-40, NA-265-50, NA-265-60, NA-265-65, NA-265-70, and NA-265-80 Series Airplanes

AGENCY: Federal Aviation Administration (FAA), Department of Transportation (DOT).

ACTION: Notice of proposed rulemaking (NPRM).

SUMMARY: The FAA proposes to supersede an existing airworthiness directive (AD) that applies to certain Sabreliner Model NA-265-40, NA-265-50, NA-265-60, NA-265-70, and NA-265-80 series airplanes. The existing AD currently requires repetitive inspections for discrepancies in the front and rear spars of the wing in the area of the wing center section, and in the lugs on the rear spar and wing trailing edge panel rib, and corrective actions if necessary. This proposed AD would expand the applicability of the existing AD and require new repetitive inspections for fuel leaks of the front and rear spars of the wing, and for discrepancies in the front and rear spars of the wing in the area of the wing center section, and in the lugs on the rear spar and wing trailing edge panel rib. This proposed AD would also require related investigative and corrective actions, if necessary. This proposed AD results from reports of cracking in the upper and lower flanges of the front and rear spars of the wing near the wing center section, and in the lugs on the rear spar. We are proposing this AD to detect and correct cracking or other discrepancies in these areas, which could result in structural failure of the wing.

DATES: We must receive comments on this proposed AD by October 31, 2005.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590.

• Fax: (202) 493-2251.

• Hand Delivery: Room PL-401 on the plaza level of the Nassif Building, 400 Seventh Street, SW., Washington, DC, between 9 a.m. and 5 p.m., Monday through Friday, except Federal holidays.

Contact Sabreliner Corporation, 18118 Chesterfield Airport Road, Chesterfield, Missouri 63005-1121, for service information identified in this proposed AD.

FOR FURTHER INFORMATION CONTACT: T.N. Baktha, Aerospace Engineer, Airframe Branch, ACE-118W, FAA, Wichita Aircraft Certification Office, 1801 Airport Road, Room 100, Mid-Continent Airport, Wichita, Kansas 67209; telephone (316) 946-4155; fax (316) 946-4407.

SUPPLEMENTARY INFORMATION:

Comments Invited

We invite you to submit any relevant written data, views, or arguments regarding this proposed AD. Send your comments to an address listed in the ADDRESSES section. Include the docket number “Docket No. FAA-2005-20402; Directorate Identifier 2005-NM-133-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of that Web site, anyone can find and read the comments in any of our dockets, including the name of the individual who sent the comment (or signed the comment on behalf of an association, business, labor union, etc.). You may review the DOT's complete Privacy Act Statement in the Federal Register published on April 11, 2000 (65 FR 19477-78), or may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Discussion

We previously issued AD 73-18-03, amendment 39-3201 (43 FR 19208, May 4, 1978), for certain Rockwell International Model NA-265-40, NA-265-50, NA-265-60, NA-265-70, and NA-265-80 series airplanes. That AD requires repetitive inspections for discrepancies in the front and rear spars of the wing in the area of the wing center section, and in the lugs on the rear spar and wing trailing edge panel rib, and corrective actions if necessary. That AD resulted from reports of cracking in the upper and lower flanges of the front and rear spars of the wing near the wing center section, and in the lugs on the rear spar. We issued that AD to detect possible cracks, corrosion, or breaks in the surface finish in the wing spars and related areas.

Actions Since Existing AD Was Issued

Since we issued AD 73-18-03, we have determined that Sabreliner Model NA-265, NA-265-20, NA-265-30, and NA-265-65 series airplanes may also be subject to the unsafe condition addressed by AD 73-18-03. These models were not listed in the applicability statement of AD 73-18-03.

Relevant Service Information

We have reviewed Sabreliner NA-265 Service Bulletin 83-2, revised January 31, 2005. Sabreliner NA-265 Service Bulletin 83-2 supersedes Sabreliner Service Bulletin 73-11, revised June 1, 1978. (AD 73-18-03 refers to the original issue of Sabreliner Service Bulletin 73-11, dated June 18, 1973 (or later FAA-approved revisions), as the appropriate source of service information for the actions required by that AD.)

The procedures in Sabreliner NA-265 Service Bulletin 83-2 are substantially similar to those in Sabreliner Service Bulletin 73-11 and specify the following actions:

• Performing repetitive inspections of the front and rear spars of the wing for fuel leaks.

• Performing repetitive inspections using a borescope to detect breaks in the surface finish, cracking, or corrosion in the upper and lower flanges of the front spar of the wing, in the area of the wing center section.

• Performing repetitive inspections using a borescope to detect breaks in the surface finish, cracking, or corrosion in the upper and lower flanges and the splice plates of the rear spar of the wing, in the area of the wing center section.

• Performing related investigative action, consisting of a penetrant inspection for cracking, if a break in the surface finish or corrosion is found during any inspection of the rear spar in the area of the wing center section.

• Performing repetitive inspections to detect cracking in the lugs of the outboard rear spar and in the fittings on the wing trailing edge panel rib.

• Contacting Sabreliner for an engineering analysis if any crack, corrosion, or break in the surface finish is found.

FAA's Determination and Requirements of the Proposed AD

We have evaluated all pertinent information and identified an unsafe condition that is likely to develop on other airplanes of the same type design. For this reason, we are proposing this AD, which would supersede AD 73-18-03 and would retain the requirements of the existing AD. This proposed AD would also expand the applicability to include additional airplanes, and would require accomplishing the actions specified in Sabreliner NA-265 Service Bulletin 83-2, revised January 31, 2005, except as discussed under “Differences Between the Proposed AD and Service Information.”

Differences Between the Proposed AD and Service Information

Sabreliner NA-265 Service Bulletin 83-2, revised January 31, 2005, specifies that operators may contact the manufacturer for disposition of certain repair conditions. This proposed AD would require operators to repair those conditions in accordance with a method approved by the FAA.

Sabreliner NA-265 Service Bulletin 83-2, revised January 31, 2005, specifies an inspection for fuel leaks, and another inspection for cracking of the lugs on the rear spar and wing trailing edge panel rib. We have determined that these inspections can be done using a general visual inspection method. Note 1 of this proposed AD defines a general visual inspection.

Sabreliner NA-265 Service Bulletin 83-2, revised January 31, 2005, describes procedures for submitting a sheet recording compliance with the service bulletin. This proposed AD does not require that action.

These differences have been coordinated with the manufacturer.

Changes to Existing AD

The FAA has revised the applicability of the existing AD to identify model designations as published in the most recent type certificate data sheet for the affected models.

Also, we removed all references to “later FAA-approved revision” from the requirements of the existing AD, to be consistent with the policy of the Office of the Federal Register. This change will not increase the economic burden on any operator, nor will it increase the scope of the AD, since we may decide to approve later revisions of the service bulletin as an alternative method of compliance with this AD, as provided by paragraph (n) of this AD.

Also, we have revised references to inspecting and doing repairs in accordance with a method “approved by the Chief, Aircraft Engineering Division, FAA Western Region.” This office no longer exists. Accordingly, we have revised paragraphs (f), (g), and (h) of this AD to refer to inspecting and doing repairs, as applicable, in accordance with a method approved by the Manager, Wichita Aircraft Certification Office, FAA. We have also included paragraph (i) in this proposed AD to give credit for inspecting or doing repairs before the effective date of this AD in accordance with a method approved by the Chief, Aircraft Engineering Division, FAA Western Region.

Costs of Compliance

There are about 77 airplanes of the affected design in the worldwide fleet. This proposed AD would affect about 43 airplanes of U.S. registry.

The inspection specified in this proposed AD would take about 12 work hours per airplane, per inspection cycle, at an average labor rate of $65 per work hour. Based on these figures, the estimated cost of the new actions specified in this proposed AD for U.S. operators is $33,540, or $780 per airplane, per inspection cycle.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-3201 (43 FR 19208, May 4, 1978) and adding the following new airworthiness directive (AD):

Sabreliner Corporation: Docket No. FAA-2005-20402; Directorate Identifier 2005-NM-133-AD.

Comments Due Date

(a) The FAA must receive comments on this AD action by October 31, 2005.

Affected ADs

(b) This AD supersedes AD 73-18-03.

Applicability

(c) This AD applies to Sabreliner Model NA-265, NA-265-20, NA-265-30, NA-265-40, NA-265-50, NA-265-60, NA-265-65, NA-265-70, and NA-265-80 series airplanes; certificated in any category; as identified in Sabreliner NA-265 Service Bulletin 83-2, revised January 31, 2005.

Unsafe Condition

(d) This AD results from reports of cracking in the upper and lower flanges of the front and rear spars of the wing near the wing center section, and in the lugs on the rear spar. The FAA is issuing this AD to detect and correct cracking or other discrepancies in these areas, which could result in structural failure of the wing.

Compliance

(e) You are responsible for having the actions required by this AD performed within the compliance times specified, unless the actions have already been done.

Requirements of AD 73-18-03

Repetitive Inspections

(f) For the airplanes listed in Table 1 of this AD: On or before June 18, 1974, unless previously accomplished within 1 year, and at intervals not to exceed 2 years thereafter until the first inspection in accordance with paragraph (j) of this AD has been done, inspect the upper and lower flanges of the front and rear spars in the area of the wing center section, and the lugs on the rear spar and wing trailing edge panel rib, per the instructions of Sabreliner Service Bulletin 73-11, revised June 1, 1978; or an equivalent inspection approved by the Manager, Wichita Aircraft Certification Office (ACO), FAA. Inspections done before the effective date of this AD in accordance with Sabreliner Service Bulletin 73-11, dated June 15, 1973, are acceptable for compliance with this paragraph.

Table 1.—Airplanes Subject to Paragraph (f), (g), and (h) of this AD
Model | Affected serial numbers
NA-265-40 | 282-1 and subsequent.
NA-265-50 | 287-1.
NA-265-60 | 306-1 through 306-139 inclusive.
NA-265-70 | 370-1 through 370-9 inclusive.
NA-265-80 | 380-1 through 380-61 inclusive.

Corrective Actions

(g) For the airplanes listed in Table 1 of this AD: Prior to further flight, if cracks, corrosion, or breaks in the surface finish are found, during any inspection in accordance with paragraph (f) of this AD, in the front or rear spars in the area of the wing center section, replace with like serviceable parts, or repair in a manner approved by the Manager, Wichita ACO.

(h) For the airplanes listed in Table 1 of this AD: Prior to further flight, if cracks are found, during any inspection in accordance with paragraph (f) of this AD, in the lugs on the rear spar and wing trailing edge rib, replace the cracked parts with like serviceable parts, or repair in a manner approved by the Manager, Wichita ACO.

New Requirements of This AD

Inspections/Repairs Accomplished Previously

(i) Inspections and repairs accomplished before the effective date of this AD in accordance with a method approved by the Chief, Aircraft Engineering Division, FAA Western Region, are acceptable for compliance with paragraphs (f), (g), and (h) of this AD, as applicable.

New Repetitive Inspections

(j) Within 90 days after the effective date of this AD, except as provided by paragraph (j)(1) of this AD: Perform a general visual inspection for fuel leaks; an inspection using a borescope to detect any break in the surface finish, corrosion, or cracking of the upper and lower flanges on the front and rear spars of the wing in the area of the wing center section; a general visual inspection to detect cracking of the lugs on the rear spar and wing trailing edge panel rib; and related investigative actions, as applicable; by doing all applicable actions in accordance with the instructions of Sabreliner NA-265 Service Bulletin 83-2, revised January 31, 2005. Repeat the inspection thereafter at intervals not to exceed 24 months.

(1) If the inspection required by paragraph (j) of this AD has been accomplished within 12 months before the effective date of this AD, the inspection required by paragraph (j) of this AD is not required until 24 months after the most recent inspection in accordance with the requirements of paragraph (j) of this AD.

(2) For airplanes subject to paragraph (f) of this AD: Accomplishing of the initial inspection required by paragraph (j) of this AD terminates the requirements of paragraph (f) of this AD.

Note 1: For the purposes of this AD, a general visual inspection is: “A visual examination of an interior or exterior area, installation, or assembly to detect obvious damage, failure, or irregularity. This level of inspection is made from within touching distance unless otherwise specified. A mirror may be necessary to ensure visual access to all surfaces in the inspection area. This level of inspection is made under normally available lighting conditions such as daylight, hangar lighting, flashlight, or droplight and may require removal or opening of access panels or doors. Stands, ladders, or platforms may be required to gain proximity to the area being checked.”

Corrective Actions

(k) If any fuel leak, break in the surface finish, corrosion, or cracking is found during any inspection required by paragraph (j) of this AD: Before further flight, replace the subject part with a new or serviceable part, or repair the subject part in accordance with a method approved by the Manager, Wichita ACO. Where Sabreliner NA-265 Service Bulletin 83-2 specifies contacting Sabreliner for an engineering analysis: Before further flight, repair in accordance with a method approved by the Manager, Wichita ACO. For a repair method to be approved by the Manager, Wichita ACO, as required by this paragraph, the Manager's approval letter must specifically refer to this AD.

Actions Accomplished Previously

(l) Inspections and corrective actions accomplished before the effective date of this AD in accordance with the original issue of Sabreliner NA-265 Service Bulletin 83-2, dated March 4, 1983; or Sabreliner NA-265 Service Bulletin 83-2, revised February 29, 1996; are acceptable for compliance with the corresponding actions required by paragraphs (j) and (k) of this AD.

No Reporting Requirement

(m) Although the service bulletin referenced in this AD specifies to submit certain information to the manufacturer, this AD does not include that requirement.

Alternative Methods of Compliance (AMOCs)

(n) The Manager, Wichita ACO, has the authority to approve AMOCs for this AD, if requested in accordance with the procedures found in 14 CFR 39.19.

Issued in Renton, Washington, on September 6, 2005.
Kalene C. Yanamura,
Acting Manager, Transport Airplane Directorate, Aircraft Certification Service.

[FR Doc. 05-18209 Filed 9-13-05; 8:45 am]

BILLING CODE 4910-13-P